DEPARTMENT OF HEALTH AND HUMAN SERVICES

Food and Drug Administration

21 CFR Parts 11 and 101

[Docket No. FDA-2011-F-0172]

RIN 0910-AG57

Food Labeling; Nutrition Labeling of Standard Menu Items in Restaurants and Similar Retail Food Establishments; Extension of Comment Period

AGENCY: Food and Drug Administration, HHS.

ACTION: Proposed rule; extension of comment period.

SUMMARY: The Food and Drug Administration (FDA) is extending the comment period until July 5, 2011, for a proposed rule that was published in the Federal Register of April 6, 2011 (76 FR 19192). In that document, FDA proposed requirements for providing nutrition information for standard menu items in certain chain restaurants and similar retail food establishments. The Agency is extending the comment period in response to several requests to give interested parties additional time to comment.

DATES: Submit either electronic or written comments by July 5, 2011.

ADDRESSES: You may submit comments, identified by Docket No. FDA-2011-F-0172 and/or RIN 0910-AG57, by any of the following methods:

Electronic Submissions

Submit electronic comments in the following way:

• Federal eRulemaking Portal: http://www.regulations.gov. Follow the instructions for submitting comments.

Written Submissions

Submit written submissions in the following ways:

• FAX: 301-827-6870.

• Mail/Hand delivery/Courier (for paper, disk, or CD-ROM submissions): Division of Dockets Management (HFA-305), Food and Drug Administration, 5630 Fishers Lane, rm. 1061, Rockville, MD 20852.

Instructions: All submissions received must include the Agency name, Docket No. FDA-2011-F-0172, and RIN 0910-AG57 for this rulemaking. All comments received may be posted without change to http://www.regulations.gov, including any personal information provided. For additional information on submitting comments, see the “Comments” heading of the SUPPLEMENTARY INFORMATION section of this document.

Docket: For access to the docket to read background documents or comments received, go to http://www.regulations.gov and insert the docket number, found in brackets in the heading of this document, into the “Search” box and follow the prompts and/or go to the Division of Dockets Management, 5630 Fishers Lane, rm. 1061, Rockville, MD 20852.

FOR FURTHER INFORMATION CONTACT: Geraldine A. June, Center for Food Safety and Applied Nutrition (HFS-820), Food and Drug Administration, 5100 Paint Branch Pkwy., College Park, MD 20740, 240-402-2371.

SUPPLEMENTARY INFORMATION:

I. Background

In the Federal Register of April 6, 2011 (76 FR 19192), FDA proposed requirements to implement the menu labeling provisions of the Patient Protection and Affordable Care Act of 2010 (Affordable Care Act). Specifically, FDA proposed to require that restaurants and similar retail food establishments that are a part of a chain with 20 or more locations doing business under the same name, and offering for sale the same menu items, provide calorie and other nutrition information for standard menu items, including food on display and self-service food. FDA provided a 60-day comment period (i.e., until June 6, 2011) for that proposal.

FDA has received several requests to extend the comment period. The requests stated that additional time is needed to comment on the proposed rule for a number of reasons, including a need for time to assess the effect of the proposal on the industry; a desire to conduct consumer research to support comments on the proposal; and the complexities of the proposed rule.

FDA has considered the requests and is extending the comment period an additional 30 days, until July 5, 2011. We believe that this additional time will provide interested parties sufficient time to respond to the proposal.

II. Comments

Interested persons may submit to the Division of Dockets Management (see ADDRESSES) either electronic or written comments regarding this document. It is only necessary to send one set of comments. It is no longer necessary to send two copies of mailed comments. Identify comments with the docket number found in brackets in the heading of this document. Received comments may be seen in the Division of Dockets Management between 9 a.m. and 4 p.m., Monday through Friday.

Dated: May 19, 2011.
Leslie Kux,
Acting Assistant Commissioner for Policy.

[FR Doc. 2011-12736 Filed 5-23-11; 8:45 am]

BILLING CODE 4160-01-P